DEPARTMENT OF STATE

[Public Notice 8413]

Shipping Coordinating Committee; Notice of Committee Meeting

The Shipping Coordinating Committee (SHC) will conduct an open meeting at 9:30 a.m. on Tuesday, August 27, 2013, in Room 1303 of the United States Coast Guard Headquarters Building, 2100 Second Street SW., Washington, DC 20593-0001. The primary purpose of the meeting is to prepare for the eighteenth Session of the International Maritime Organization's (IMO) Sub-Committee on Dangerous Goods, Solid Cargoes and Containers (DSC 18) to be held at the IMO Headquarters, United Kingdom, September 16-20, 2013.

The agenda items to be considered include:

—Adoption of the agenda

—Decisions of other IMO bodies

—Review of general cargo ship safety

—Development of amendments to CSC 1972 and associated circulars

—Development of measures to prevent loss of containers

—Development of amendments to the IMSBC Code and supplements, including evaluation of properties of solid bulk cargoes

—Development of amendments to the IMDG Code and supplements, including harmonization with the United Nations Recommendations on the transport of dangerous goods

—Revision of the guidelines for packing of cargo transport units

—Development of amendments to SOLAS and the relevant codes concerning mandatory carriage of appropriate atmosphere testing instruments on board ships

—Casualty and incident reports and analysis

—Biennial agenda and provisional agenda for DSC 19

—Any other business

—Report ot the Maritime Safety Committee

Members of the public may attend this meeting up to the seating capacity of the room. To facilitate the building security process, and to request reasonable accommodation, those who plan to attend should contact the meeting coordinator, Ms. Amy Parker, by email at Amy.M.Parker@uscg.mil, by phone at (202) 372-1423, by fax at (202) 372-1925, or in writing at Commandant (CG-ENG-5), U.S. Coast Guard, 2100 2nd Street SW., Stop 7126, Washington, DC 20593-7126 not later than August 20, 2013, 7 days prior to the meeting. Requests made after August 20, 2013 might not be able to be accommodated. Please note that due to security considerations, two valid, government issued photo identifications must be presented to gain entrance to the Headquarters building. The Headquarters building is accessible by taxi and privately owned conveyance (public transportation is not generally available). However, parking in the vicinity of the building is extremely limited. Additional information regarding this and other IMO SHC public meetings may be found at: www.uscg.mil/imo.

Dated: July 31, 2013.
Marc Zlomek,
Executive Secretary, Shipping Coordinating Committee, Department of State.

[FR Doc. 2013-19083 Filed 8-6-13; 8:45 am]

BILLING CODE 4710-09-P